NUCLEAR REGULATORY COMMISSION

[Docket Nos: STN 50-456; STN 50-457; STN 50-454; STN 50-455; 50-461; 50-10; 50-237; 50-249; 50-373; 50-374; 50-352; 50-353; 50-219; 50-171; 50-277; 50-278; 50-254; 50-265; 50-289; 50-295; 50-304]

Exelon Generation Company, LLC; Amergen Energy Company, LLC; Braidwood Station, Units 1 and 2; Byron Station, Units 1 and 2; Clinton Power Station, Unit 1; Dresden Nuclear Power Station, Units 1, 2, and 3; Lasalle County Station, Units 1 and 2; Limerick Generating Station, Units 1 And 2; Oyster Creek Nuclear Generating Station; Peach Bottom Atomic Power Station, Units 1, 2 and 3; Quad Cities Nuclear Power Station, Units 1 and 2; Three Mile Island Nuclear Station, Unit 1; and Zion Nuclear Power Station, Units 1 and 2; Environmental Assessment and Finding of No Significant Impact

The U.S. Nuclear Regulatory Commission (NRC) is considering issuance of a schedular exemption from Title 10 of the Code of Federal Regulations (10 CFR) Part 50, § 50.54(a)(3), for the following facility operating licenses issued to Exelon Generation Company, LLC, and AmerGen Energy Company, LLC (the licensees) for operation of Facility Operating License Nos. NPF-72 and NPF-77 for the Braidwood Station, Units 1 and 2, located in Will County, Illinois; NPF-37 and NPF-66 for the Byron Station, Units 1 and 2, located in Ogle County, Illinois; NPF-62 for the Clinton Power Station, Unit 1, located in DeWitt County, Illinois; DPR-2, DPR-19, and DPR-25 for the Dresden Nuclear Power Station, Units 1, 2, and 3, located in Grundy County, Illinois; NPF-11 and NPF-18 for the LaSalle County Station, Units 1 and 2, located in LaSalle County, Illinois; NPF-39 and NPF-85 for Limerick Generating Station, Units 1 and 2, located in Montgomery County, Pennsylvania; DPR-16 for Oyster Creek Nuclear Generating Station, located in Ocean County, New Jersey; DPR-12, DPR-44, and DPR-56 for Peach Bottom Atomic Power Station, Units 1, 2, and 3, located in York and Lancaster Counties, Pennsylvania; DPR-29 and DPR-30 for the Quad Cities Nuclear Power Station, Units 1 and 2, located in Rock Island County, Illinois; DPR-50 for the Three Mile Island Nuclear Station, Unit 1, located in Dauphin County, Pennsylvania; and DPR-39 and DPR-48 for the Zion Nuclear Power Station, Units 1 and 2, located in Lake County, Illinois. Therefore, as required by 10 CFR 51.21, the NRC is issuing this environmental assessment and finding of no significant impact.

Environmental Assessment

Identification of the Proposed Action

The proposed action would exempt the licensees from the requirements of 10 CFR 50.54(a)(3), pertaining to submitting periodic quality assurance topical report (QATR) changes that do not reduce commitments. The schedule for submitting QATR changes is described in 10 CFR 50.71(e)(4), which requires that changes must be filed annually or 6 months after each refueling outage provided the interval between successive updates does not exceed 24 months. The licensees are proposing that changes to the common QATR that do not reduce commitments be submitted on a 24-month calendar schedule, not to exceed 24 months from the previous submittal. The proposed schedule for submitting changes to the common QATR will not be coincident with any plant's refueling outage schedule or Updated Final Safety Analysis Report periodic updates.

The proposed action is in accordance with the licensee's application dated December 14, 2005.

The Need for the Proposed Action

The proposed action is requested in order to eliminate a significant administrative and regulatory burden that would not serve the underlying purpose of the rule. The action relates to the periodic submittal of changes to the licensees' common QATR that do not reduce commitments, are strictly administrative changes, and which have no effect on the operation of the licensees' nuclear power facilities.

Environmental Impacts of the Proposed Action

The NRC has completed its evaluation of the proposed action and concludes that the proposed exemption is administrative and would not affect any plant equipment, operation, or procedures.

The proposed action will not significantly increase the probability or consequences of accidents. No changes are being made in the types of effluents that may be released off site. There is no significant increase in the amount of any effluent released off site. There is no significant increase in occupational or public radiation exposure. Therefore, there are no significant radiological environmental impacts associated with the proposed action.

With regard to potential non-radiological impacts, the proposed action does not have a potential to affect any historic sites. It does not affect non-radiological plant effluents and has no other environmental impact. Therefore, there are no significant non-radiological environmental impacts associated with the proposed action.

Accordingly, the NRC concludes that there are no significant environmental impacts associated with the proposed action.

Environmental Impacts of the Alternatives to the Proposed Action

As an alternative to the proposed action, the NRC staff considered denial of the proposed action (i.e., the “no-action” alternative). Denial of the application would result in no change in current environmental impacts. The environmental impacts of the proposed action and the alternative action are the same.

Alternative Use of Resources

The proposed action does not involve the use of any different resources than those previously considered in the Final Environmental Statements related to the ownership or operation of Braidwood Station, Units 1 and 2, NUREG-1026, dated June 1984; Byron Station, Units 1 and 2, NUREG-0848, dated April 1982; Clinton Power Station, Unit 1, NUREG-0854, dated May 1982; Dresden Nuclear Power Station, Units 1, 2, and 3, dated November 1973, and for Dresden Nuclear Power Station, Units 2 and 3, NUREG-1437, Supplement 17, dated June 2004; LaSalle County Station, Units 1 and 2, NUREG-0486, dated November 1978; Limerick Generating Station, Units 1 and 2, dated November 1973; Oyster Creek Nuclear Generating Station, dated December 1974; Peach Bottom Atomic Power Station, Units 1, 2, and 3, dated April 1973, and for Peach Bottom Atomic Power Station, Units 2 and 3, NUREG-1437, Supplement 10, dated January 2003; Quad Cities Nuclear Power Station, Units 1 and 2, dated September 1972, and NUREG-1437, Supplement 16, dated June 2004; Three Mile Island, Unit 1, dated December 1972; and Zion Nuclear Power Station, Units 1 and 2, dated December 1972.

Agencies and Persons Consulted

Regarding the environmental impact of the proposed action, the NRC staff consulted with the following officials: Illinois State official for the facilities in Illinois, Mr. Frank Niziolek, Bureau of Nuclear Facility Safety, Illinois Emergency Management Agency, on March 28, 2006; Commonwealth of Pennsylvania officials for Limerick, Peach Bottom, and Three Mile Island Stations, Mr. David Ney, Mr. Dennis Dyckman, and Mr. Michael Murphy, Bureau of Radiation Protection, Pennsylvania Department of Environmental Protection, on March 31, April 3 and 17, 2006, respectively; and New Jersey State official for Oyster Creek Station, Mr. Richard Pinney, Bureau of Nuclear Engineering, New Jersey Department of Environmental Protection, on April 3, 2006. The State officials had no comments.

Finding of No Significant Impact

On the basis of the environmental assessment, the NRC concludes that the proposed action will not have a significant effect on the quality of the human environment. Accordingly, the NRC has determined not to prepare an environmental impact statement for the proposed action.

For further details with respect to the proposed action, see the licensee's letter dated December 14, 2005. Documents may be examined, and/or copied for a fee, at the NRC's Public Document Room (PDR), located at One White Flint North, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff at 1-800-397-4209 or 301-415-4737, or send an e-mail to pdr@nrc.gov.

Dated at Rockville, Maryland, this 15th day of May 2006.
For the Nuclear Regulatory Commission.
Kahtan N. Jabbour,
Senior Project Manager, Plant Licensing Branch III-2, Division of Operating Reactor Licensing, Office of Nuclear Reactor Regulation.

[FR Doc. E6-7786 Filed 5-19-06; 8:45 am]

BILLING CODE 7590-01-P